ENVIRONMENTAL PROTECTION AGENCY

[FRL-7047-9]

FY02 Wetland Program Development Grants Guidelines

AGENCY: Environmental Protection Agency.

ACTION: Notice.

SUMMARY: The Wetland Program Development Grants (WPDGs), initiated in FY90, provide eligible applicants an opportunity to conduct projects that promote the coordination and acceleration of research, investigations, experiments, training, demonstrations, surveys, and studies relating to the causes, effects, extent, prevention, reduction, and elimination of water pollution. While WPDGs can continue to be used by recipients to build and refine any element of a comprehensive wetland program, priority will be given to funding projects that address the three priority areas identified by EPA for FY02: Developing a comprehensive monitoring and assessment program; improving the effectiveness of compensatory mitigation; and refining the protection of vulnerable wetlands and aquatic resources.

This year, in addition to States, Tribes, local governments (S/T/LGs) , interstate associations, and intertribal consortia, eligibility is broadened to include national non-profit, non-governmental organizations. This document governs the grant selection and award process for eligible applicants interested in applying for FY02 WPDGs.

FOR FURTHER INFORMATION CONTACT: Connie Cahanap, Office of Wetlands, Oceans, and Watersheds, Wetlands Division (MC 4502F), U.S. Environmental Protection Agency, 1200 Pennsylvania Avenue, NW. Washington, DC 20460, Telephone: (202) 260-6531, Fax: (202) 260-8000.

Dated: August 28, 2001.
John W. Meagher,
Acting Director, Office of Wetlands, Oceans, and Watersheds.

Wetland Program Development Grants Guidelines FY2002

Table of Contents

I. Introduction

II. Program Priorities

III. Funding Eligibility

IV. Selection Criteria

V. Application Procedures

A. Application Package

B. Deadlines

C. Match Requirements

D. Quality Assurance/Quality Control

VI. Additional Program Information

A. Performance Partnership Grants

B. Local and Tribal Targets

C. Reporting

D. Public Participation

E. Annual Wetlands Meeting/Training

Appendix—A Grant Restriction

Appendix B—Example WPDG Project Topics

Appendix C—Regional Grant Coordinators

I. Introduction

The goals of the Environmental Protection Agency's (EPA) wetland program are to increase the quantity and quality of wetlands in the U.S. by conserving and increasing wetland acreage and improving wetland health. In pursuing these goals, EPA seeks to build the capacity of all levels of government to develop and implement effective, comprehensive programs for wetland protection and management. The six program areas central to achieving these goals are: regulation, monitoring and assessment, restoration, wetland water quality standards, public-private partnerships, and coordination among agencies with wetland or wetland-related programs.

In addition to S/T/LGs, interstate agencies, intertribal consortia, and local government agencies, EPA is broadening applicant eligibility this year to include national non-profit, non-governmental organizations in an effort to provide greater support for S/T/LGs (see section III).

The Wetland Program Development Grants, initiated in FY90, provide States, Tribes, local governments (S/T/LGs), interstate associations, intertribal consortia, and national non-profit non-governmental organizations (hereafter referred to as award applicants or award recipients) an opportunity to carry out projects to develop and refine comprehensive wetland programs. Interest in the grant program has continued to grow over the years, and since 1995, Congress has appropriated $15 million annually to support the grant program. The type of projects that award recipients can undertake to develop and refine their comprehensive wetland programs are very diverse. In the past, award recipients have pursued a wide range of activities, such as developing management tools for wetland resources, advancing scientific and technical tools for protecting wetland health, improving availability of data and information about wetlands, and training wetland managers and the public about wetland and watershed values. Appendix B lists other examples of project topics.

The statutory authority for WPDGs is section 104(b)(3) of the Clean Water Act (CWA). Section 104(b)(3) of the CWA restricts the use of these grants to developing and refining wetland management programs by conducting or promoting the coordination and acceleration of research, investigations, experiments, training, demonstrations, surveys, and studies relating to the causes, effects, extent, prevention, reduction, and elimination of water pollution. These grants may not be used for the operational support of wetland programs. All projects funded through this program must contribute to the overall development and improvement of S/T/LG wetland programs. Award applicants must demonstrate that their proposed project integrates with S/T/LG wetland programs.

The award and administration of WPDGs are governed by the regulations at 40 CFR part 31 (“Uniform Administrative Requirements for Grants and Cooperative Agreements to State and Local Governments”) and 40 CFR part 35, subpart A (66 FR 1725, Jan. 9, 2001, effective date postponed until April 9, 2001, 66 FR 9202 (Feb. 7, 2001)) and subpart B (see 66 FR 3782, Jan. 16, 2001, effective date postponed until April 17, 2001, 66 FR 9661 (Feb. 9, 2001)). This grant guideline document outlines the administrative and programmatic procedures for award applicants interested in the Wetland Program Development Grants.

II. Program Priorities

EPA has initiated an assessment of the wetland program elements that will move S/T/LGs toward developing comprehensive wetland programs. For FY02, the wetland program has identified three areas as program priorities for improving S/T/LG's ability to protect and restore their wetlands: (1) Developing a comprehensive wetland monitoring and assessment program; (2) improving the effectiveness of compensatory mitigation; and (3) refining the protection of vulnerable wetlands and aquatic resources. Applicants are encouraged to develop WPDG applications that address these priorities.

A. Developing a comprehensive monitoring and assessment program

Project objectives, results and products should substantively advance the scientific, technical, and management tools for evaluating, protecting and restoring wetland extent and health. Projects should be for the development of a comprehensive S/T/LG wetland monitoring and assessment program that improves decision making, with the aim of ultimately implementing these programs. WPDGs can be used for projects that build S/T/LG wetland monitoring and assessment capacity to determine the causes, effects, and extent of pollution to wetlands resources and develop pollution prevention, reduction, and elimination strategies. Capacity to analyze impacts and develop wetland management strategies can be improved by, for example, piloting methods for tracking wetland acreage gains and losses, demonstrating the use of wetland functional and biological assessment to improve the evaluation and ranking of potential wetland restoration sites or acquisition properties, analyzing and reporting monitoring data for reports required under section 305(b) of the Clean Water Act, and coordinating wetland management activities and information exchange among various levels of government. Furthermore, applicants can host technical training workshops, establish regional or state interagency wetland monitoring and assessment workgroups, develop biological and other functional assessment methods and protocols, develop volunteer monitoring programs, and improve wetland inventory. While wetland inventory is an important component, inventory alone does not constitute development of a comprehensive wetland monitoring and assessment program. Data collected from pilot wetland monitoring projects must be incorporated into 305(b) reports. Additionally, EPA strongly encourages recipients to download data collected through monitoring projects into STORET (short for STOrage and RETrieval).

B. Improving the effectiveness of compensatory mitigation

Projects should be directed toward improving S/T/LG capacity to ensure ecologically effective compensatory mitigation for unavoidable impacts. For example, WPDGs can be used to build technical expertise in wetland restoration and creation, develop tracking systems for compliance and enforcement of mitigation activities, or develop methods for monitoring the effectiveness of mitigation. Grant funds can only be used for improvement or development of mitigation programs. They cannot be used for specific mitigation activities (e.g., implementation of individual mitigation projects, mitigation banks, or in lieu fee mitigation programs).

C. Refining the protection of vulnerable wetlands and aquatic resources

While all wetlands are important in ecological functioning on a watershed scale, some are better protected than others; isolated wetlands and waters are particularly at risk as are wetlands subject to damage from discharge of incidental fallback of dredged material. S/T/LG wishing to build comprehensive wetland protection programs that protect isolated wetlands and other aquatic resources are encouraged to do so. National non-profit, non-governmental organizations that can support S/T/LGs in this area are encouraged to apply. Efforts can include, but are not limited to, information dissemination, data exchange, studying S/T/LG regulatory improvement opportunities, and surveying opportunities for land acquisition, conservation easements, and tax incentive provisions. This grant program, however, cannot fund the purchase of land or conservation easements (see Appendix A for Grant Restrictions).

D. Other program areas

While WPDGs can still be used by award recipients to develop and refine all elements of a comprehensive wetland program (see examples in Appendix B), in this and upcoming years, funding priority will be given to projects that address the three priority areas.

III. Funding Eligibility

In order to provide greater assistance to S/T/LGs, EPA is broadening funding eligibility to include non-profit, non-governmental organizations which undertake activities that advance wetland programs on a national basis. Activities must help S/T/LGs refine and develop wetland programs. For example, projects and tasks can involve collecting and making available through publications and other appropriate means, such as training, information about how various wetland programs across the nation protect, manage and restore their wetland resources and about initiatives to improve S/T/LG wetland programs.

States, Tribes, local government agencies, interstate agencies, and intertribal consortia continue to be eligible. Typical wetland or wetland related agencies include, but are not limited to wetland regulatory agencies, water quality agencies (Section 401 water quality certification), planning offices, wild and scenic rivers agencies, departments of transportation, fish and wildlife or natural resources agencies, agriculture departments, forestry agencies, coastal zone management agencies, park and recreation agencies, non-point source or storm water agencies, city or county and other S/T/LG wetland-related governmental agencies.

In order to be eligible for WPDG funds, Tribes must be federally recognized, although “Treatment as a State” status is not a requirement. Intertribal consortia that meet the requirements of 40 CFR 35.504 are eligible for direct funding.

Interstate agency and intertribal consortia projects must be broad in scope and encompass more than one State, Tribe, or local government.

Grant funds are awarded through a competitive process. The majority of WPDG funds are allocated to EPA Regional offices, based on the number of States and Territories within the Region, to fund S/T/LG, interstate agencies, and intertribal consortia. Headquarters reserves a portion of the funds for non-profit, non-governmental organizations (see section V for Application Procedures). Funding decisions are made by EPA Regional and Headquarters offices and are based on the quality of the proposals received and adherence to the selection criteria (see section IV). EPA typically receives requests for funding far in excess of available funds, therefore EPA cannot provide grant funds to all applicants.

IV. Selection Criteria

For FY02, priority in the selection process will be given to projects which support the development of a S/T/LG's monitoring and assessment program, improvement of the effectiveness of compensatory mitigation, or protection of vulnerable wetlands and aquatic resources. All proposals, regardless of topic area, will be evaluated using the following general categories of criteria:

• Clarity of Work Plan—clearly written and detailed proposals;

• Potential Environmental Results—a high probability for positive environmental results in the short and long term;

• Transferability of Results and/or Methods to S/T/LG;

• Success of Previous Projects—for applicants who have received prior EPA funding;

• Involvement/Commitment of the applicant—significant financial and personnel contribution and involvement of partners

• Incorporation of project into broad agency goals (Core Elements of a Comprehensive Wetland Program is available on EPA's web page at http://www.epa.gov/owow/wetlands/initiative/#financial or by mail upon request to the Wetlands Helpline at (800) 832-7828).

V. Application Procedures

WPDG applications from States, Tribes, and local governments are handled through EPA Regional offices, while applications from non-profit, non-governmental organizations are handled through EPA Headquarters (Appendix C). Applications from interstate agencies and intertribal consortia can be submitted to either a Regional office or Headquarters, however, the same proposals cannot be submitted to more than one office. Both Headquarters and Regional offices review all their applications and select the most competitive projects for funding. Both the quality and quantity of the applications will play a significant role in the selection of grants for funding.

A. Application Package

Interested applicants must submit an application, which includes completed EPA grant forms and a work plan. At a minimum, work plans must include: (1) Summary of key objectives and final products, preferably in 50 words or less; (2) detailed description of project tasks and an explanation of how the project will contribute to developing or improving the wetland program; (3) time-line; (4) budget and estimated funding amounts for each work plan component; (5) deliverables; (6) performance evaluation process and reporting schedule; (7) roles and responsibilities of the recipient and EPA in carrying out the work plan commitments; and (8) contact information for the Program Manager and Grant Project Lead Manager. Some Regional offices may ask S/T/LGs to submit pre-application proposals of grant projects for competitive review (see section V Part B for deadlines). Contact your Regional EPA Grant Coordinator (Appendix C) for specific regional guidance. Grant application forms are available at http://www.epa.gov/ogd/hqgrant/ and by mail upon request to the Grants Administration Division at (202) 564-5305.

B. Deadlines

Full application proposals must be submitted to the appropriate EPA office and postmarked by the appropriate Regional and Headquarters deadlines:

Region 1: States: December 31, 2001; Tribes: June 28, 2002.

Region 2: January 31, 2002.

Region 3: Pre-proposal: October 10, 2001; Final proposal: January 16, 2002.

Region 4: October 31, 2001.

Region 5: December 14, 2001.

Region 6: November 30, 2001.

Region 7: December 1, 2001.

Region 8: December 3, 2001.

Region 9: Pre-proposal: October 26, 2001; Final proposal: January 11, 2002.

Region 10: Pre-proposal: November 5, 2001; Final proposal: February 22, 2002.

Headquarters: Pre-proposal: December 7, 2001; Final proposal: February 15, 2002.

Please contact the appropriate Grants Coordinator (Appendix C) for further information and/or to confirm deadlines.

Applicants may request assistance in revising work plans, proposed funding levels to better reflect the funding available, and preliminary proposals to develop a project that better reflects program priorities.

C. Match Requirements

S/T/LG, interstate agencies, and intertribal consortia must provide a minimum of 25% of each award's total project costs in accordance with 40 CFR 31.24, 35.385, and 35.615. We encourage States, Tribes and local governments to provide additional matching funds whenever possible (i.e., funds in excess of the required 25% of total project costs). Non-profit, non-governmental organizations must also provide a minimum of 25% of each award's total project costs.

Matching funds can be provided by entities other than the award recipient. Other Federal money cannot be used as the match for this grant program unless authorized by the statute governing the award of the other Federal funds. However, Indian tribes can use funds provided under the Indian Self-Determination and Education Act (25 U.S.C. 450 et seq.) to provide the required matching funds to the extent authorized by that Act and implementing regulations.

Matching funds are considered grant funds. They may be used for the reasonable and necessary expenses of carrying out the work plan. Any restrictions on the use of grant funds (i.e., prohibition of land acquisition with grant funds) also apply to the use of matching funds.

D. Quality Assurance/Quality Control (QA/QC)

QA/QC and peer review are sometimes applicable to these grants (see 40 CFR 30.54 and 40 CFR 31.45). Each application should be evaluated to determine if QA/QC is needed in order to comply with the quality system requirements under EPA Order 5360.1A2 (EPA's Policy and Program Requirements for the Mandatory Agency-wide Quality System, May 5, 2000). This document is available at http://www.epa.gov/quality/qa_docs.html#noneparqt and by mail upon request to the Quality Staff in the Office of Environmental Information by calling (202) 564-6830. These requirements apply to the collection of environmental data. Environmental data are any measurements or information that describe environmental processes, location, or conditions; ecological or health effects and consequences; or the performance of environmental technology. Environmental data include information collected directly from measurements, produced from models, and compiled from other sources such as data bases or literature. Applicants should allow sufficient time and resources for this process. EPA can help explain specific guidance on QA/QC requirements.

VI. Additional Program Information

A. Performance Partnership Grants

A Performance Partnership Grant (PPG) is a multi-program grant made to a State, Interstate agency, Tribe, or intertribal consortium from funds allocated and otherwise available for environmental program grants. Local governments are not eligible for PPGs. PPGs are voluntary and provide recipients the option to combine funds from two or more categorical grants into one or more PPGs. PPGs can provide administrative and/or programmatic flexibility.

However, the WPDGs remain a competitive grant program. Therefore, state or tribal proposals must first be selected under the competitive grant process and must identify specific wetland-related output or outcome measures in the grant proposal as a condition for adding funds to the PPG. Once the 104(b)(3) funds are awarded through the competitive process, the State or Tribe can choose to add wetland grant funds to a new or existing PPG in accordance with the regulations governing PPGs at 40 CFR part 35, subparts A and B. Because WPDGs are awarded competitively, the PPG work plan must include the work plan commitments that would have been included in the work plan for the WPDG (see 40 CFR 35.138).

For further information, see the final rules on Environmental Program Grants for State, Interstate, and Local Government Agencies at 66 FR 1725 (January 9, 2001) and Tribes at 66 FR 3782 (January 16, 2001). The effective dates for these rules were delayed to April 9, 2001 and April 17, 2001, respectively. The rules are also available on EPA's website at http://www.epa.gov/fedrgstr/EPA-TOX/2001/Day-09/t218.htm (State) and at http://www.epa.gov/fedrgstr/EPA-GENERAL/2001January/Day-16/g219.htm (Tribal).

B. Local and Tribal Funding Targets

Each Regional office will support the local government initiative and tribal efforts by targeting at least 15% of their Regional allocation to local government and tribal applications.

C. Reporting

WPDGs are currently covered under the following EPA grant regulations: 40 CFR part 30 (non-profit organizations); 40 CFR part 31 (states, tribes, interstate agencies, intertribal consortia and local governments) and 40 CFR part 35, subpart A (states, interstate agencies and local governments) (66 FR 1725, Jan. 9, 2001, effective date postponed until April 9, 2001, 66 FR 9202 (Feb. 7, 2001)) and subpart B (tribes and intertribal consortia) (66 FR 3782, Jan. 16, 2001, effective date postponed until April 17, 2001, 66 FR 9661, (Feb. 9, 2001)). These regulations specify basic grant reporting requirements, including performance and financial reports (see 40 CFR 30.51, 30.52, 31.40, 31.41, 35.115, and 35.515). In negotiating these grants, EPA will work closely with recipients to incorporate appropriate performance reporting requirements into each grant agreement consistent with 40 CFR 30.51, 31.40, 35.115, and 35.515. These regulations provide some flexibility in determining the appropriate content and frequency of performance reports. At a minimum, however, the reporting schedule must require the recipient to report at least annually.

The granting EPA offices will set the time frames and determine the required content of all periodic performance reports. However, at a minimum, the reports should include:

• Project description-short narrative of the original project

• Information on status of funding—total federal funds awarded under the WPDG, federal funds expended, federal funds remaining,

• Accomplishments in the last reporting period/progress to date—short narrative assessment of accomplishments and program highlights for that reporting period,

• Deficiencies and/or corrective actions—short narrative of any program deficiencies or corrective actions during that reporting period and proposed corrective actions or project modifications, and

• Planned activities for the next reporting period—short narrative describing upcoming activities.

D. Public Participation

EPA regulations require public participation in various Clean Water Act programs including grants (40 CFR part 25). Each applicant for EPA financial assistance shall include tasks for public participation in their project's work plan submitted in the grant application (40 CFR 25.11). The project work plan should reflect how public participation will be provided for, assisted, and accomplished.

E. Annual Wetlands Meeting/Training

EPA encourages S/T/LGs to include travel plans for wetland personnel to attend at least one national wetland meeting in support of the project or for training each year (e.g., National EPA, State, Tribal, Local Wetland Meeting, wetland monitoring workshops). Applicants should account for travel plans and costs in the work plans and the project budget. EPA's Wetlands Division does not anticipate providing travel for State, Tribal or local government staff to attend meetings other than through this grant program.

Appendix A—Grant Restrictions

Based on experience gained from previous years and policy and regulation, we offer the following comments/restrictions on funding eligibility.

• Universities (except those chartered as a part of state government) and schools, are not eligible for direct funding under this grant program. However, award recipients may award such entities contracts in accordance with 40 CFR 31.36, and subgrants in accordance with 40 CFR 31.37. The State, Tribe, local agency, or national non-profit organization should not simply pass through funding to an organization that is not eligible to receive funding directly.

• Universities that are agencies of state government are eligible to receive grant funds. Universities must provide documentation acceptable to EPA to demonstrate that they function as a state agency. Land grant schools do not automatically qualify for direct funding because of their status as a land grant school.

• This grant program cannot fund land acquisition or purchase of easements. However, this program may support research, investigations, experiments, training, demonstrations, surveys, and study efforts directed at identifying areas for acquisition, which would help address water pollution problems.

• This grant program cannot fund payment of taxes for landowners who have wetlands on their property.

• While contractual efforts can be a part of these grants, each recipient must be significantly involved in the administration of the grant. EPA recommends that recipients use no more than 50% of the grant funds to contract with non-governmental entities. However, if the applicant wants to exceed this limit, it may submit a written justification for greater involvement by non-governmental contractors. EPA will evaluate the need for greater contractual participation and may approve the request if they agree that there is adequate justification to exceed the 50% limit. For the purposes of this requirement, work done by other S/T/LG agencies, interstate associations, and intertribal consortia is not considered contractual efforts. The grant application should clearly indicate if the contractual work is being done by another S/T/LG agency, interstate agencies, or intertribal consortia.

• Inventory or mapping for the sole purpose of locating wetlands in a S/T/LG is not eligible for funding under this grant program. A description of how mapping or inventory projects will directly develop or improve the eligible applicant's wetland protection programs must be included in the grant application for these types of projects to be considered for funding under this grant program.

• Each grant must be completed with the initial award of funds. Recipients should not anticipate additional funding beyond the initial award of funds for a specific project. Eligible applicants should request the entire amount of money needed to complete the project in the original application. Each grant should produce a final, discrete product. Funding and project periods can be for more than one year.

• Grant funds cannot be used to fund an honorarium under this program.

• Any field work or research-type activities are limited to activities that have a direct, demonstrated link to program development or refinement included in the application.

• Purchase/lease of vehicles (including boats, motor homes) and office furniture is not eligible for funding under this program.

• Grant funds cannot be used to pay for travel by Federal agency staff unless travel costs are related to the grant project.

Appendix B—Example WPDG Project Topics

EPA has developed a database of all projects supported through the Wetland Program Development Grants funding. This searchable database will be available in September, 2001 on EPA's web page at:http://www.epa.gov/owow/wetlands/initiative/#financial

The following is a list of examples of projects that may be funded through Wetland Program Development Grants. Projects must be in support of conducting or promoting the coordination and acceleration of research, investigations, experiments, training, demonstrations, surveys, and studies relating to the causes, effects, extent, prevention, reduction, and elimination of water pollution.

• comprehensive planning of wetland resources, or integration of wetland management into broad watershed protection approaches

• development of S/T/LG Wetland Conservation Plans (WCP)

• development of a framework for assuming the CWA Section 404 program or Programmatic General Permits program

• development of widely applicable model wetland training programs for S/T/LGs

• development of wetland water quality standards, or refining criteria to appropriately reflect water quality conditions in wetlands

• creation, piloting and refining of wetland and riparian restoration programs

• development, piloting and refining of wetland bioassessment methods and programs to evaluate wetland health and performance of protection and restoration activities

• development of and/or participation in training that builds watershed and wetland partnership and technical skills (e.g., the Watershed Academy)

• development of outreach programs that improve public understanding of S/T/LG wetland protection and regulatory efforts and facilitate public-private partnerships and wetland restoration efforts.

This is not an exhaustive list, and eligible applicants may submit any eligible proposal for wetland program development which addresses EPA's goals and criteria outlined in this document.

Appendix C—Regional Grant Coordinators

Region 1: Bob Goetzl (goetzl.robert@epa.gov) 617/918-1671.

Region 2: John Cantilli (cantillli.john@epa.gov) 212/637-3810.

Region 3: Alva Brunner (brunner.alva@epa.gov) 215/814-2715.

Region 4: Sharon Ward (ward.sharon@epa.gov) 404/562-9269.

Region 5: Cathy Garra (garra.catherine@epa.gov) 312/886-0241.

Region 6: Sondra McDonald (mcdonald.sondra@epa.gov) 214/665-7187.

Region 7: Raju Kakarlapudi (kakarlapudi.raju@epa.gov) 913/551-7320.

Region 8: Brent Truskowski (truskowski.brent@epa.gov) 303/312-6235.

Region 9: Cheryl McGovern (mcgovern.cheryl@epa.gov) 415/744-2013.

Region 10: David Kulman (kulman.david@epa.gov) 206/553-6219.

Headquarters:Connie Cahanap (cahanap.concepcion@epa.gov) 202/260-6531.Donna An (an.donna@epa.gov) 202/260-0335.

[FR Doc. 01-22266 Filed 9-4-01; 8:45 am]

BILLING CODE 6560-50-U